DEPARTMENT OF ENERGY

[Number DE-PS07-03ID14453]

Chemical Industry of the Future

AGENCY: Idaho Operations Office, DOE.

ACTION: Notice of availability of financial assistance solicitation.

SUMMARY: The U.S. Department of Energy (DOE) Idaho Operations Office (ID) is seeking applications for cost shared research and development (R&D) of technologies which will reduce energy consumption, enhance economic competitiveness, and reduce environmental impacts of the domestic chemical industry. The R&D will focus on technology development in the areas of catalysis and catalytic engineering, and separations technologies.

DATES: The issuance date of Solicitation Number DE-PS07-03ID14453 was January 14, 2003. The deadline for receipt of applications will be approximately on April 30, 2003.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Seb Klein, Contract Specialist, kleinsm@id.doe gov.

SUPPLEMENTARY INFORMATION: Approximately $6 million in federal funds are expected to be available to fund the first 12 months of selected research projects. Subject to the availability of funds, approximately $30 million is planned to fund the remaining years of the projects. DOE anticipates making 6 to 10 cooperative agreement awards, each with a duration of three to five years or less. A minimum of two industrial chemical companies must be involved. Awardees are required to develop collaborative project teams, which can include industry, university, and national laboratory participants. The statutory authority for this program is the U.S. Department of Energy Organization Act (Public Law 95-91). The Catalog of Federal Domestic Assistance (CFDA) Number for this program is 81.086.

Issued in Idaho Falls on January 13, 2003.
R.J. Hoyles,
Director, Procurement Services Division.

[FR Doc. 03-1332 Filed 1-21-03; 8:45 am]

BILLING CODE 6450-01-P